DEPARTMENT OF COMMERCE

National Oceanic and Atmospheric Administration

RIN 0648-XC877

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Executive Committee, and its Mackerel, Squid, Butterfish Committee (MSB) will hold public meetings.

DATES: The meetings will be held Monday, October 7, 2013 through Thursday, October 10, 2013. See SUPPLEMENTARY INFORMATION for specific dates and times.

ADDRESSES: The meetings will be held at the Courtyard Philadelphia Downtown, 21 N. Juniper St., Philadelphia, PA 19107-1901, telephone: (215) 496-3200.

Council address: Mid-Atlantic Fishery Management Council, 800 N. State St., Suite 201, Dover, DE 19901; telephone: 302-674-2331.

FOR FURTHER INFORMATION CONTACT: Christopher M. Moore, Ph.D. Executive Director, Mid-Atlantic Fishery Management Council; telephone: (302) 526-5255.

SUPPLEMENTARY INFORMATION:

Monday, October 7, 2013

10:30 a.m. until 12:30 p.m.—The Executive Committee will meet.

1:30 p.m. until 5 p.m.—The MSB Committee will meet.

Tuesday, October 8, 2013

9 a.m.—The Council will convene.

9 a.m. until 10:30 a.m.—Dogfish Specifications will be discussed.

10:30 a.m. until 11:30 a.m.—Framework 8 to the Monkfish Fishery Management Plan (FMP) will be discussed.

11:30 a.m. until 12 p.m.—A Bluefin Tuna Presentation will occur.

1 p.m. until 3:30 p.m.—MSB issues will be discussed.

3:30 p.m. until 4:30 p.m.—The SAW/SARC 57 Summary will be presented.

4:30 p.m. until 5 p.m.—An Update on the Atlantic Wind Connection Project will be discussed.

5 p.m. until 6 p.m.—The Listening Session will be held.

Wednesday, October 9, 2013

The Demersal Committee will meet as a Committee of the Whole with the Atlantic States Marine Fisheries Commission's (ASMFC) Summer Flounder, Scup, and Black Sea Boards.

9 a.m. until 4:30 p.m.—The Council will finalize summer flounder, scup, black sea bass, and bluefish management measures for 2014-15 (2014 for Bluefish) in conjunction with the Atlantic States Marine Fisheries Commission's (ASMFC) Summer Flounder, Scup, Black Sea Bass, and Bluefish Boards. The ASMFC will provide an update on activities regarding summer flounder.

4:30 p.m. until 5 p.m.—Research Set-Aside Research Priorities will be discussed.

Thursday, October 10, 2013

9 a.m. until 10 a.m.—Final Rule for National Standard 2 Guidelines Presentation will be discussed.

10 a.m. until 1 p.m.—The Council will hold its regular Business Session to approve the June 2013 and August 2013 minutes, receive Organizational Reports, the South Atlantic and the New England Liaison Reports, the Executive Director's Report, the Science Report, Committee Reports, and conduct any continuing and/or new business.

Agenda items by day for the Council's Committees and the Council itself are:

On Monday, October 7—The Executive Committee will review and revise the Implementation Plan. The MSB Committee will develop Committee recommendations on river herring and/or shad management approach (stock in fishery or other).

On Tuesday, October 8—The Council will convene at 9 a.m. The Council will review the Scientific and Statistical Committee's (SSC), the Monitoring Committee's and Advisory Panel's specification recommendations for 2014 and adopt 2014 commercial and recreational harvest levels and commercial management measures for Dogfish. The Council will review Framework 8 to the Monkfish FMP for the range of alternatives; consider approval of alternatives for further analysis; measures include the specification of annual catch target; days-at-sea, and trip limits for 2014-16, and changes to the Category H Boundary. The Council will hear an overview of the Bluefin Tuna Amendment 7 proposed rule. The Council will review the MSB Committee's recommendations regarding river herring/shad management and adopt a management approach for river herring/shad. The Council will hear a SAW/SARC 57 Summary Benchmark Assessment review of summer flounder and striped bass. The Council will receive an update on the Atlantic Wind Connection Project. The Council will hold a public Listening Session with a presentation on Ocean Acidification.

On Wednesday, October 9—The Council in conjunction with the ASMFC's Summer Flounder, Scup, Black Sea Bass and Bluefish Board will review the Scientific and Statistical Committee (SSC), the associated Monitoring Committee's and Advisory Panel's specification recommendations for 2014-15 (2014 for bluefish) and adopt 2014-15 (2014 for bluefish) commercial and recreational harvest levels and commercial management measures for summer flounder, scup, black sea bass, and bluefish. The ASMFC will approve the 2013 Fishery Management Plan Review and the Terms of Reference for the Bluefish stock assessment. Research Set-Aside research priorities will be established for 2015 RSA RFP.

On Thursday, October 10—The Council will receive a presentation regarding the Final Rule for National Standard 2 Guidelines. The Council will hold its regular Business Session to approve the June 2013 and August 2013 minutes, receive Organizational Reports to include an update on forms and process for data collection for the surfclam and ocean quahog fisheries and industry-funded observer coverage, South Atlantic and New England Liaison Reports, the Executive Director's Report, Science Report, Committee Reports, and conduct any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: September 16, 2013.
Tracey L. Thompson,
Acting Deputy Director, Office of Sustainable Fisheries, National Marine Fisheries Service.

[FR Doc. 2013-22773 Filed 9-18-13; 8:45 am]

BILLING CODE 3510-22-P